ENVIRONMENTAL PROTECTION AGENCY

[EPA-HQ-OPP-2007-0299; FRL-8567-9]

Agency Information Collection Activities; Submission to OMB for Review and Approval; Comment Request; Worker Protection Standard Training and Notification; EPA ICR No. 1759.05, OMB Control No. 2070-0148

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before June 18, 2008.

ADDRESSES: Submit your comments, referencing Docket ID No. EPA-HQ-OPP-2007-0299, to (1) EPA online using http://www.regulations.gov (our preferred method), by e-mail to opp.ncic@epa.gov, or by mail to: OPP Regulatory Public Docket (7502P), Office of Pesticide Programs (OPP), Environmental Protection Agency, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Joseph Hogue, Field and External Affairs Division, Office of Pesticide Programs, (7506P), Environmental Protection Agency, 1200 Pennsylvania Ave., NW., Washington, DC 20460; telephone number: 703-308-9072; fax number: 703-305-5884; e-mail address: hogue.joe@epa.gov.

SUPPLEMENTARY INFORMATION: EPA has submitted the following ICR to OMB for review and approval according to the procedures prescribed in 5 CFR 1320.12. On November 16, 2007 (72 FR 64611), EPA sought comments on this ICR pursuant to 5 CFR 1320.8(d). EPA received no comments. Any additional comments on this ICR should be submitted to EPA and OMB within 30 days of this notice.

EPA has established a public docket for this ICR under Docket ID No. EPA-HQ-OPP-2007-0299, which is available for online viewing at http://www.regulations.gov, or in person viewing at the OPP Regulatory Public Docket in Rm. S-4400, One Potomac Yard (South Building), 2777 S. Crystal Drive, Arlington, VA. This docket facility is open from 8:30 a.m. to 4 p.m., Monday through Friday, excluding legal holidays. The docket telephone number is (703) 305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Worker Protection Standard Training and Notification.

ICR numbers: EPA ICR No. 1759.05, OMB Control No. 2070-0148.

ICR Status: This ICR is scheduled to expire on May 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA is responsible for the regulation of pesticides under the Federal Insecticide, Fungicide, and Rodenticide Act (FIFRA). The Worker Protection Standard (WPS), codified at 40 Code of Federal Regulations (CFR) part 170, established requirements to protect agricultural workers and pesticide handlers from hazards of pesticides used on farms, on forests, in nurseries and in greenhouses. 40 CFR part 170 contains the standard and workplace practices, which are designed to reduce or eliminate exposure to pesticides and establish procedures for responding to exposure-related emergencies. The practices include prohibitions against applying pesticides in a way that would cause exposure to workers and others; a waiting period before workers can return to areas treated with pesticides (restricted entry interval); basic safety training (and voluntary training verification) and posting of information about pesticide hazards, as well as pesticide application information; arrangements for the supply of soap, water, and towels in case of pesticide exposure; and provisions for emergency assistance. The training verification program facilitates compliance with the training requirements by providing a voluntary method for employers to verify that the required safety information has been provided to workers and handlers.

This renewal ICR estimates the third party response burden from complying with the Worker Protection Standard requirements. Information is exchanged between agricultural employers and employees at farm, forest, nursery and greenhouse establishments to ensure worker safety. No information is collected by the Agency under this ICR. Responses to this ICR are mandatory. The authority for this information collection is provided under section 25 of FIFRA and 40 CFR part 170.

Burden Statement: The annual public reporting and recordkeeping burden for this collection of information is estimated to average 0.15 hours (about 9 minutes) per response, ranging from two minutes to 45 minutes for the various types of responses. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Agricultural employers, including employers in farms as well as nursery, forestry, and greenhouse establishments.

Estimated Number of Respondents: 3,245,393.

Frequency of Response: On occasion.

Estimated Total Annual Hour Burden: 1,776,131

Estimated Total Annual Cost: $76,574,607, includes $0 annualized capital or O&M costs.

Changes in the Estimates: The total estimated annual respondent burden for this ICR renewal is 1,776,131 hours, a reduction of 517,233 from the 2,293,364 total estimated burden hours in the currently-approved ICR. This change is an adjustment and is the result of a correction to the estimated annual number of treatment-specific worker and handler notification events, both oral and posted. Although EPA had correctly explained the method of calculating the number of notifications in previous versions of this ICR, the figures presented in the supporting statement's corresponding tables that were used to tally the overall burden were inconsistent with EPA's explanation. EPA has clarified its explanation in the supporting statement.

Dated: May 9, 2008.
Sara Hisel-McCoy,
Director, Collection Strategies Division.

[FR Doc. E8-11154 Filed 5-16-08; 8:45 am]

BILLING CODE 6560-50-P